ENVIRONMENTAL PROTECTION AGENCY

[OECA-2004-0040; FRL-7868-2]

Agency Information Collection Activities; Submission for OMB Review and Approval; Comment Request; NSPS for Municipal Waste Combustors (Renewal), ICR Number 1506.10, OMB Number 2060-0210

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on April 30, 2005. Under OMB regulations, the Agency may continue to conduct or sponsor the collection of information while this submission is pending at OMB. This ICR describes the nature of the information collection and its estimated burden and cost.

DATES: Additional comments may be submitted on or before March 7, 2005.

ADDRESSES: Submit your comments, referencing docket ID number OECA-2004-0040, to (1) EPA online using EDOCKET (our preferred method), by e-mail to docket.oeca@epa.gov, or by mail to: Environmental Protection Agency, EPA Docket Center (EPA/DC), Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, (Mail Code 2223A), Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On September 14, 2004 (69 FR 55430) EPA sought comments on this ICR pursuant to 5 CFR 1320.8(d). EPA received no comments.

EPA has established a public docket for this ICR under Docket ID No. OECA-2004-0040, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NSPS for Municipal Waste Combustors (40 CFR part 60, subparts Ea and Eb) (Renewal)

Abstract: The New Source Performance Standards (NSPS) for subparts Ea and Eb were proposed on December 20, 1980, and September 20, 1994 respectively, and promulgated on February 11, 1991 and December 19, 1995, respectively. Both of these standards apply to municipal waste combustors with unit capacities greater than 225 megagrams per day. Owners or operators of the affected facilities must make one-time-only notifications and reports and must keep records of all facilities subject to NSPS requirements. Owners or operators are also required to maintain records of the occurrence and duration of any startup, shutdown, or malfunction in the operation of an affected facility, or any period during which the monitoring system is inoperative. The pollutants of concern for subpart Ea are metals, municipal waste combustor (MWC) organics, MWC acid gases, and nitrogen oxides. In subpart Eb the additional pollutants of concern are cadmium (Cd), lead (Pb), and mercury (Hg). Subparts Ea and Eb require owners and operators with unit capacity above 225 megagrams per day to notify the agency of intent to construct and initiate operation of a new, modified or reconstructed MWC. The notification must contain supporting information regarding unit design capacity, the calculations used to determine capacity, and estimated startup dates.

Owners and operators must submit semiannual and annual compliance reports. In addition, facilities subject to subpart Eb are required to keep records of the weekly amount of carbon used for activated carbon injection and to calculate the estimated hourly carbon injection rate for hours of operation as a means of determining continuous compliance for Hg. Annual reports of excess emissions are required under subpart Ea, while semiannual reports of excess emissions are required under subpart Eb. These notifications, reports, and records are essential in determining compliance and are required, in general, of all sources subject to the standard.

Any owner or operator subject to subpart Ea will maintain a file of these measurements, and retain the file for at least two years. For those facilities subject to subpart Eb all records are required to be maintained at the source for a period of five years.

Notifications are used to inform the Agency or delegated authority when a source becomes subject to the standard. The reviewing authority may then inspect the source to check if the pollution control devices are properly installed and operated, and the standard is being met. Performance test reports are needed as these are the Agency's records of a source's initial capability to comply with the emission standards, and serve as a record of the operating conditions under which compliance was achieved. The information generated by monitoring, recordkeeping and reporting requirements described in this ICR is used by the Agency to ensure that facilities affected by the standard continue to operate the control equipment and achieve continuous compliance with the regulation.

All reports are sent to the delegated state or local authority. In the event that there is no such delegated authority, the reports are sent directly to the EPA regional office.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information are estimated to average 198 hours per response. Burdens means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of municipal waste combustors.

Estimated Number of Respondents: 12.

Frequency of Response: Initially, quarterly, semiannually, annually.

Estimated Total Annual Hour Burden: 20,421 hours.

Estimated Total Annual Costs: $1,635,293, which includes $60,000 annualized capital/startup costs, $99,000 (rounded) annual O&M costs, and $1,476,293 annual labor costs.

Changes in the Estimates: There is an increase of 8,536 hours in the total estimated burden currently identified in the OMB Inventory of Approved ICR Burdens. This is due to an increase in the number of sources from eight to twelve from the most recently approved ICR.

Dated: January 25, 2005.
Oscar Morales,
Director, Collection Strategies Division.

[FR Doc. 05-2066 Filed 2-2-05; 8:45 am]

BILLING CODE 6560-50-P